FEDERAL FINANCIAL INSTITUTIONS EXAMINATION COUNCIL

[Docket No. AS24-05]

Appraisal Subcommittee; Notice of Adoption of Revised Grants Handbook

AGENCY: Appraisal Subcommittee of the Federal Financial Institutions Examination Council.

ACTION: Notice of adoption of Revised Grants Handbook.

SUMMARY: The Appraisal Subcommittee (ASC) of the Federal Financial Institutions Examination Council (FFIEC) is providing notice of its adoption of the Revised Grants Handbook (Handbook). The Handbook is the official repository of the policies and procedures for the administration of grants made by the ASC as authorized by Title XI of the Financial Institutions Reform, Recovery, and Enforcement Act of 1989, as amended (Title XI). The ASC adopted the Handbook in the open session ASC Special Meeting held January 17, 2024. This Handbook supersedes the Handbook that the ASC adopted on December 12, 2019.

FOR FURTHER INFORMATION CONTACT: Rae Frederique, Grants Director, at regeane@asc.gov, ASC, 1325 G Street NW, Suite 500, Washington, DC 20005.

SUPPLEMENTARY INFORMATION: The ASC is authorized to grant funds to the Appraisal Foundation under Title XI, section 1109(b)(4). The ASC may “make grants in such amounts as it deems appropriate to the Appraisal Foundation, to help defray those costs of the foundation relating to the activities of its Appraisal Standards and Appraiser Qualification Boards.” ¹ The ASC is also authorized to grant funds to State appraiser certifying and licensing agencies under Title XI section 1109 (b)(5), which provides that the ASC may “make grants to State appraiser certifying and licensing agencies, in accordance with policies to be developed by the [ASC], to support the efforts of such agencies to comply with [Title XI] . . . .” ²

¹ Title XI § 1109 (b)(4), 12 U.S.C. 3338(b)(4).

² Title XI § 1109 (b)(5), 12 U.S.C. 3338(b)(5).

The Handbook as adopted by the ASC is available to the public and can be found at: https://www.asc.gov/sites/default/files/2024-01/2024.01.17%20ASC%20Handbook%20Ver.2.pdf on the ASC's website (www.asc.gov).

* * * * *

By the Appraisal Subcommittee.
James R. Park,
Executive Director.

[FR Doc. 2024-03666 Filed 2-22-24; 8:45 am]

BILLING CODE 6700-01-P